GENERAL SERVICES ADMINISTRATION

[OMB Control No. 3090-0310; Docket No. 2024-0001; Sequence No. 7]

Submission for OMB Review; Nondiscrimination in Federal Financial Assistance for Real Property Recipients

AGENCY: Office of Civil Rights (OCR), General Services Administration (GSA).

ACTION: Notice; request for comments.

SUMMARY: In accordance with the Paperwork Reduction Act of 1995, and the Office of Management and Budget (OMB) regulations, GSA invites the public to comment on a revision to existing information collection 3090-0310, to add a Nondiscrimination in Federal Financial Assistance for Real Property Recipients form. This information is needed to facilitate nondiscrimination in GSA's Federal Financial Assistance Programs, consistent with Federal civil rights laws and regulations that apply to recipients of Federal financial assistance.

DATES: Submit comments on or before: December 6, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Lisa Lee Anderson, External Programs Branch Chief, OCR, at (202) 501-0767 or via email at civilrights@gsa.gov.

SUPPLEMENTARY INFORMATION:

A. Purpose

GSA has mission responsibilities related to monitoring and enforcing compliance with Federal civil rights laws and regulations that apply to Federal financial assistance programs administered by GSA. Specifically, those laws provide that no person on the ground of race, color, national origin, disability, sex, or age shall be excluded from participation in, be denied the benefits of, or be otherwise subjected to discrimination under any program in connection with which Federal financial assistance is extended under laws administered in whole, or in part, by GSA.

These mission responsibilities generate the requirement to request and obtain certain data from recipients of Federal surplus real property conveyances under the Federal Public Benefit Conveyance Program for the purpose of determining compliance, such as the number of individuals that speak non-English languages encountered by the recipient's program(s) and how the recipient is addressing meaningful access for individuals that are Limited English Proficient; whether the recipients provide disability access in compliance with applicable laws and standards; whether there has been complaints or lawsuits filed against the recipient based on prohibited discrimination; whether there has been any findings of discrimination; and whether the recipient's facilities are accessible to qualified individuals with disabilities.

B. Annual Reporting Burden

Respondents: 75.

Responses per Respondent: 1.

Total Responses: 75.

Hours per Response: 2.

Total Burden Hours: 150.

C. Public Comments

A 60-day notice was published in the Federal Register at 89 FR 64462 on August 7, 2024. No comments were received.

Lois Mandell,
Director, Regulatory Secretariat Division, General Services Administration.

[FR Doc. 2024-25742 Filed 11-5-24; 8:45 am]

BILLING CODE 6820-34-P